Title 3—

The President

Presidential Determination No. 2021-13 of September 15, 2021

Presidential Determination on Major Drug Transit or Major Illicit Drug Producing Countries for Fiscal Year 2022

Memorandum for the Secretary of State

By the authority vested in me as President by the Constitution and the laws of the United States, including section 706(1) of the Foreign Relations Authorization Act, Fiscal Year 2003 (Public Law 107-228) (FRAA), I hereby identify the following countries as major drug transit or major illicit drug producing countries: Afghanistan, The Bahamas, Belize, Bolivia, Burma, Colombia, Costa Rica, the Dominican Republic, Ecuador, El Salvador, Guatemala, Haiti, Honduras, India, Jamaica, Laos, Mexico, Nicaragua, Pakistan, Panama, Peru, and Venezuela.

A country's presence on the foregoing list is neither a reflection of its government's counterdrug efforts nor level of cooperation with the United States. Consistent with the statutory definition of a major drug transit or major illicit drug producing country set forth in section 481(e)(2) and (5) of the Foreign Assistance Act of 1961, as amended (Public Law 87-195) (FAA), the reason countries are placed on the list is the combination of geographic, commercial, and economic factors that allow drugs to be transited or produced, even if a government has engaged in robust and diligent narcotics control and law enforcement measures.

Pursuant to section 706(2)(A) of the FRAA, I hereby designate Bolivia and Venezuela as having failed demonstrably to make substantial efforts during the previous 12 months to both adhere to their obligations under international counternarcotics agreements and to take the measures required by section 489(a)(1) of the FAA. Included with this determination are justifications for the designations of Bolivia and Venezuela, as required by section 706(2)(B) of the FRAA. I have also determined, in accordance with provisions of section 706(3)(A) of the FRAA, that United States programs that support Bolivia and Venezuela are vital to the national interests of the United States.

The ongoing drug addiction and overdose epidemic in the United States is one of the foremost public health priorities of my Administration, and addressing this epidemic will require both new domestic investments and greater cooperation with foreign partners to target illicit drug suppliers and the criminal organizations that profit from them. While creating our first-year drug policy priorities, my Administration outlined a strategy that includes expanding access to prevention, treatment, evidence-based harm reduction, and recovery support services in order to curb the drug addiction and overdose epidemic. The American Rescue Plan Act of 2021 is an investment in these priorities, committing nearly $4 billion to support behavioral health and substance use disorder programs.

My Administration's Fiscal Year 2022 Budget request itemizes $10.7 billion to support research, prevention, treatment, evidence-based harm reduction, and recovery support services, with targeted investments to meet the needs of populations at greatest risk for overdose and substance use disorder. The Budget request also includes significant investments to reduce the supply of illicit drugs originating from beyond our borders.

The United States is committed to working together with the countries of the Western Hemisphere as neighbors and partners to meet our shared challenges of drug trafficking and use. My Administration will seek to expand cooperation with key partners, such as Mexico and Colombia, to shape a collective and comprehensive response and expand efforts to address the production and trafficking of dangerous synthetic drugs that are responsible for many of our overdose deaths, particularly fentanyl, fentanyl analogues, and methamphetamine. In Mexico, we must continue to work together to intensify efforts to dismantle transnational criminal organizations and their networks, increase prosecutions of criminal leaders and facilitators, and strengthen efforts to seize illicit assets. In Bolivia, I encourage the government to take additional steps to safeguard the country's licit coca markets from criminal exploitation and reduce illicit coca cultivation that continues to exceed legal limits under Bolivia's domestic laws for medicinal and traditional use. In addition, the United States will look to expand cooperation with China, India, and other chemical source countries in order to disrupt the global flow of synthetic drugs and their precursor chemicals.

You are authorized and directed to submit this designation, with the Bolivia and Venezuela memoranda of justification, under section 706 of the FRAA, to the Congress, and to publish this determination in the Federal Register.

THE WHITE HOUSE,

Washington, September 15, 2021

[FR Doc. 2021-20737

Filed 9-21-21; 11:15 am]

Billing code 4710-10-P